DEPARTMENT OF TRANSPORTATION

Federal Railroad Administration

[Docket Number FRA-2009-0089]

Petition for Waiver of Compliance

In accordance with part 211 of Title 49 of the Code of Federal Regulations (CFR), this document provides the public notice that by a document posted on March 11, 2015, the Ashtabula, Carson & Jefferson Railroad (ACJR) has petitioned the Federal Railroad Administration (FRA) for a waiver of compliance from certain provisions of the Federal railroad safety regulations contained at 49 CFR 223.11, Requirements for existing locomotives. FRA assigned the petition Docket Number FRA-2009-0089.

ACJR of Jefferson City, OH, has petitioned for a permanent waiver of compliance for one locomotive, ACJR 7371, from the requirements of the railroad safety glazing standards at 49 CFR part 223 that require certified glazing in all windows. ACJR, chartered in 1984 to save the Conrail Jefferson Industrial Track, is located in the northeastern corner of Ohio. Its 6.3-mile long track, running through level farmland and wooded areas, has one terminus in Jefferson, OH, and the other, for interchanges, at the south end of Norfolk Southern Railway's Carson Yard in Ashtabula, OH. The railroad provides bulk commodity shipping and transloading services to customers from its staging facilities at the termini. Each year, the railroad hauls approximately 1,200 cars, at speeds not exceeding 10 mph.

The locomotive was built by the American Locomotive Company (Alco) in April 1941, as a model S1 B-B yard switcher with an Alco 539 (6-cylinder, 660 hp) engine. It is equipped with Plexiglas-type safety glazing that is in good condition, clear, and unscratched. ACJR states that there has been no instance of vandalism in approximately 30 years of its operations. ACJR further states that the expense of retrofitting the locomotive to comply with FRA safety glazing standards would impose an undue financial burden that ACJR cannot bear at this time.

Because of a low risk of exposure to injury due to vandalism and the prohibitive cost of glazing material and labor, ACJR is requesting the waiver of regulation contained at 49 CFR 223.11 for its locomotive listed above.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 16, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on August 10, 2015.
Ron Hynes,
Director, Office of Technical Oversight.

[FR Doc. 2015-21526 Filed 8-31-15; 8:45 am]

BILLING CODE 4910-06-P